DEPARTMENT OF HEALTH AND HUMAN SERVICES

Centers for Disease Control and Prevention

Summary of Special Exposure Cohort Petitions and National Institute for Occupational Safety and Health Findings

AGENCY: Centers for Disease Control and Prevention (CDC), Department of Health and Human Services (HHS).

ACTION: Notice.

SUMMARY: Pursuant to the requirements of 42 CFR 83.15(a), the Department of Health and Human Services (HHS) gives notice of petitions to add classes of employees to the Special Exposure Cohort (SEC) and the findings of the National Institute for Occupational Safety and Health (NIOSH) from evaluating these petitions that are to be considered by the Advisory Board on Radiation and Worker Health April 25-27, 2006 (see notice: Federal Register/Vol. 71, No. 66/Thursday, April 6, 2006/Notices, p. 17470).

Summary of petitions and NIOSH findings:

1. Y-12 Plant, Oak Ridge, Tennessee

Qualified Petitioners: Survivors of Y-12 Plant Department of Energy (DOE) contractor employees.

Initial Proposed Class Definition, Subject to Revision as Warranted by the Evaluation: All steamfitters, pipefitters, and plumbers who worked at Y-12 from October, 1944 through December, 1957.

Basis of the Petition: Documentation or statements provided by affidavit indicating that radiation exposures and doses to members of the proposed class were not monitored either through personal or area monitoring.

NIOSH Finding and NIOSH Proposed Class Definition: NIOSH does not have access to sufficient information to estimate radiation dose with sufficient accuracy for employees of the DOE or DOE contractors or subcontractors who were monitored or should have been monitored for thorium exposures while working in Building 9202, 9204-1, 9204-3, 9206, or 9212 at Y-12 during the period January 1948 through December 1957. NIOSH has determined that health was endangered for those workers who were employed for at least 250 aggregated work days within the parameters established for this class or in combination with work days within the parameters for one or more classes of employees in the SEC.

2. Rocky Flats Plant, Golden, Colorado

Qualified Petitioner: Labor organization representing or formerly having represented DOE or DOE contractor or subcontractor employees who would be included in the proposed class of employees.

Initial Proposed Class Definition, Subject to Revision as Warranted by the Evaluation: All represented members, past, present and current, of United Steelworkers of America (USWA) Local 8031 and its predecessors, that worked at the Rocky Flats Plant, Golden, Colorado, from April 1952 to February 15, 2005.

Bases of the Petition:

a. Documents or statements provided by affidavit indicating that radiation exposures and doses to members of the proposed class were not monitored, either through personal or area monitoring.

b. Documents or statements provided by affidavit indicating that radiation monitoring records for members of the proposed class have been lost, falsified, or destroyed; or that there is no information regarding monitoring, source, source term, or process from the site where the employees worked.

c. A report from a health physicist or other individual with expertise in radiation dose reconstruction documenting the limitations of existing DOE records on radiation exposures at the facility, as relevant to the petition.

d. A scientific or technical report, issued by an agency of the Executive Branch of Government, or published in a peer-reviewed journal, that identifies dosimetry and related information that are unavailable (due to either a lack of monitoring or the destruction or loss of records) for estimating the radiation doses of employees covered by the petition.

NIOSH Finding: NIOSH has established that it has access to sufficient information to estimate the maximum radiation dose incurred by any member of the class as identified above, or estimate radiation doses more precisely than a maximum dose estimate. Information available from the Rocky Flats Site Profile document and additional resources is sufficient to estimate the maximum internal and external potential exposure to members of the proposed class under plausible circumstances during the specified period.

3. Nevada Test Site, Mercury, Nevada

Qualified Petitioner: DOE contractor or subcontractor employee who would be included in the proposed class of employees.

Initial Proposed Class Definition, Subject to Revision as Warranted by the Evaluation: Employees of the DOE or DOE contractors or subcontractors who worked at the Nevada Test Site during the period January 27, 1951 through December 31, 1962.

Basis of the Petition: NIOSH has determined that there is insufficient information to complete a dose reconstruction for the employee identified in the petition, and NIOSH has notified the employee, Department of Labor (DOL), and DOE of this finding. HHS will consider this finding sufficient, without further consideration, to determine that it is not feasible to estimate the levels of radiation doses of members of the class with sufficient accuracy.

NIOSH Finding and NIOSH Proposed Class Definition: NIOSH does not have access to sufficient information to estimate the potential internal radiation dose with sufficient accuracy for employees of the DOE or DOE contractors or subcontractors who worked at the Nevada Test Site during the period January 27, 1951 through December 31, 1962. NIOSH has determined that health was endangered for those workers who were employed for at least 250 aggregated work days within the parameters established for this class or in combination with work days within the parameters for one or more classes of employees in the SEC.

4. Pacific Proving Ground, Marshall Islands

Qualified Petitioner: Survivor of former DOE or DOE contractor or subcontractor employee.

Initial Proposed Class Definition, Subject to Revision as Warranted by the Evaluation: All Scientists and Scientific Couriers that worked on Enewetak Atoll, Pacific Proving Grounds, Marshall Islands, from July 1, 1958 until August 31, 1958 (Operation Hardtack I).

Basis of the Petition: Documentation or statements provided by affidavit indicating that radiation exposures and doses to members of the proposed class were not monitored, either through personal or area monitoring.

NIOSH Finding and NIOSH Proposed Class Definition: NIOSH does not have access to sufficient information to document or estimate either the potential maximum internal radiation dose, or to estimate such radiation doses more precisely than a maximum dose estimate for employees of the DOE or DOE contractors or subcontractors who were monitored or should have been monitored for exposures to ionizing radiation as a result of nuclear weapons testing, under plausible circumstances during the period of Atomic Energy Commission operations at the Pacific Proving Ground, 1946 through 1962. NIOSH has determined that health was endangered for those workers who were employed for at least 250 aggregated work days within the parameters established for this class or in combination with work days within the parameters for one or more classes of employees in the SEC.

FOR FURTHER INFORMATION CONTACT: Larry Elliott, Director, Office of Compensation Analysis and Support, National Institute for Occupational Safety and Health, 4676 Columbia Parkway, MS C-46, Cincinnati, OH 45226, Telephone 513-533-6800 (this is not a toll-free number). Information requests can also be submitted by e-mail to OCAS@CDC.GOV.

Dated: April 13, 2006.
John Howard,
Director, National Institute for Occupational Safety and Health, Centers for Disease Control and Prevention.

8

[FR Doc. E6-5851 Filed 4-18-06; 8:45 am]

BILLING CODE 4163-19-P